DEPARTMENT OF HOMELAND SECURITY

Federal Emergency Management Agency

[Docket ID: FEMA-2009-0001]

Agency Information Collection Activities: Submission for OMB Review; Comment Request, OMB No. 1660-0006; National Flood Insurance Program Policy Forms

AGENCY: Federal Emergency Management Agency, DHS.

ACTION: Notice; 30-day notice and request for comments; extension, without change, of a currently approved information collection; OMB No. 1660-0006; FEMA Form 086-0-1, Flood Insurance Application; FEMA Form 086-0-2, Flood Insurance Cancellation/Nullification Request Form; FEMA Form 086-0-3, Flood Insurance General Change Endorsement; FEMA Form 086-0-5, Flood Insurance Preferred Risk Policy Application; FEMA Form 086-0-4, V-Zone Risk Factor Rating Form and Instructions.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before July 7, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: National Flood Insurance Program Policy Forms.

Type of information collection: Extension, without change, of a currently approved information collection.

OMB Number: 1660-0006.

Form Titles and Numbers: FEMA Form 086-0-1, Flood Insurance Application; FEMA Form 086-0-2, Flood Insurance Cancellation/Nullification Request Form; FEMA Form 086-0-3, Flood Insurance General Change Endorsement; FEMA Form 086-0-5, Flood Insurance Preferred Risk Policy Application; FEMA Form 086-0-4, V-Zone Risk Factor Rating Form and Instructions.

Abstract: In order to provide for the availability of policies for flood insurance, policies are marketed through the facilities of licensed insurance agents or brokers in the various States. Applications from agents or brokers are forwarded to a servicing company designated as fiscal agent by the Federal Insurance Administration. Upon receipt and examination of the application and required premium, the servicing company issues the appropriate Federal flood insurance policy.

Affected Public: Individual and Households, Business or other for-profit, Farms, State, local, or Tribal Government.

Estimated Number of Respondents: 123,361. Please note that the number of respondents was misprinted in the 60-day Federal Register Notice at 75 FR 9918, March 4, 2010. The correct number is 123,361.

Frequency of Response: Annually.

Estimated Average Hour Burden per Respondent: .0769 Hours.

Estimated Total Annual Burden Hours: 9,480.58.

Estimated Cost: The estimated cost due to annual operation or maintenance costs associated with this collection equal $6,387,400. There are no annual start-up or capital costs.

Dated: May 28, 2010.
Tammi Hines,
Acting Director, Records Management Division, Mission Support Bureau, Federal Emergency Management Agency, Department of Homeland Security.

[FR Doc. 2010-13604 Filed 6-4-10; 8:45 am]

BILLING CODE 9110-11-P